DEPARTMENT OF LABOR

Office of the Secretary

Research on Children Working in the Carpet Industry of India, Nepal and Pakistan

AGENCY: Bureau of International Labor Affairs, Department of Labor.

Announcement Type: New. Notice of Availability of Funds and Solicitation for Cooperative Agreement Applications.

Funding Opportunity Number: SGA 07-11.

Catalog of Federal Domestic Assistance (CFDA) Number: Not applicable.

Key Dates: Deadline for Submission of Application is August 3, 2007.

Executive Summary: The U.S. Department of Labor, Bureau of International Labor Affairs, will award up to USD 3.5 million through a Cooperative Agreement to a qualifying organization or Association to carry out research on children working in the carpet industry in India, Nepal, and Pakistan. Research funded under this Cooperative Agreement will involve gathering and analyzing data in order to answer the research questions outlined in this solicitation. Applicants must respond to the entire Scope of Work for this award.

I. Funding Opportunity Description

The U.S. Department of Labor (USDOL), Bureau of International Labor Affairs (ILAB), announces the availability of funds to be awarded by a Cooperative Agreement to a qualifying organization or Association (hereinafter referred to as “Applicant”) to carry out research on children working in the carpet industry in India, Nepal, and Pakistan. Research funded under this Cooperative Agreement will involve gathering and analyzing data in order to answer the research questions outlined in this solicitation. Research funded as a result of this solicitation will build and expand upon existing research on child labor in the carpet industry in the three countries.

ILAB is authorized to award and administer a Cooperative Agreement for this purpose by Section 20607 of the Revised Continuing Appropriations Resolution 2007, Pub L. 110-05, 121 Stat 8 (2007). The Cooperative Agreement awarded under this solicitation will be managed by ILAB's Office of Child Labor, Forced Labor, and Human Trafficking (OCFT). The duration of the research project funded by this solicitation will be up to three years. The start date of project activities will be negotiated upon award of the Cooperative Agreement, but will be no later than September 30, 2007.

Please note that Appendix A provides USDOL's definitions for all key terms denoted in italics throughout the text of this solicitation. (For ease of reference, the term “child(ren)” has not been denoted in italics, though its definition is included in Appendix A. Child(ren) are defined by USDOL as individuals under the age of 18 years.)

1. Background

A. USDOL Support for the Global Elimination of Exploitive Child Labor

ILAB conducts research and commissions studies to inform and formulate international economic, trade, immigration and labor policies in collaboration with other U.S. Government agencies and provides technical assistance to countries abroad in support of U.S. foreign labor policy objectives. OCFT, formerly the International Child Labor Program (ICLP), was created at the request of Congress in 1993 to specifically research and report on child labor around the world. More recently Congress, through the Trafficking Victims Protection Reauthorization Act of 2005, directed ILAB to include, among its responsibilities, monitoring and combating forced labor and human trafficking. Today, OCFT develops policy, conducts research, and implements technical cooperation projects to eradicate exploitive child labor, trafficking in persons, and forced labor worldwide.

Since 1994, ILAB has published over 20 congressionally-mandated reports and has funded various research initiatives on international child labor, which have been widely distributed in the United States and abroad. The congressionally-mandated reports appear in ILAB's By the Sweat and Toil of Children and Advancing the Campaign Against Child Labor report series. Beginning in 2001, the USDOL's Findings on the Worst Forms of Child Labor annual report has focused on child labor in trade beneficiary countries and countries with which the United States has negotiated free trade agreements. In 2006, ILAB hosted a research symposium, Linking Theory and Practice to Eliminate the Worst Forms of Child Labor, to further advance the knowledge base on child labor, and provide a forum to promote dialogue between researchers and practitioners on the barriers to education for working children. All of these research products can be found at the USDOL Web site, http://www.dol.gov/ILAB/programs/iclp/.

In addition to ILAB's research activities, USDOL funds technical cooperation projects that include direct action to prevent and withdraw children from exploitive child labor, particularly the worst forms of child labor, and carry out various research activities to inform policy and program design. Since 1995, the U.S. Congress has appropriated $595 million to USDOL for efforts to combat exploitive child labor internationally. This funding has been used to support technical cooperation projects to combat exploitive child labor in more than 75 countries around the world. Technical cooperation projects funded by USDOL range from targeted action programs in specific sectors of work to more comprehensive programs that support national efforts to eliminate the worst forms of child labor, as defined by International Labor Organization (ILO) Convention 182 (Worst Forms of Child Labor Convention, 1999). USDOL places a high level of emphasis on the use of accurate and reliable data and information for the purposes of program planning, policy design and impact measurement. Accordingly, technical cooperation projects have included funding of national child labor surveys and the development of creative and innovative methodologies to collect data on working children. Survey instruments and research methodologies continue to be refined in order to gather data on children in the worst forms of child labor who would otherwise be excluded from traditional survey instruments.

B. Factors Contributing to Exploitive Child Labor and Barriers to Education

The ILO estimated that 218 million children ages 5 to 17 were engaged in child labor around the world in 2004. Children engaged in exploitive child labor on a full-time basis are generally unable to attend school, and children engaged in exploitive child labor on a part-time basis balance economic survival with schooling from an early age, often to the detriment of their education.

Complex factors contribute to children's involvement in exploitive labor, including hazardous work, as well as barriers to education for children who are engaged in or at-risk of entering exploitive child labor. These include poverty; education system barriers; infrastructure barriers; legal and policy barriers; resource gaps; institutional barriers; informational gaps; demographic characteristics of children and/or families; cultural and traditional practices; tenuous labor markets; and weak child labor law enforcement. While these factors and barriers tend to exist throughout the world in areas with a high incidence of exploitive child labor, they manifest themselves in specific ways in the countries of interest in this solicitation.

Some factors unrelated to education that contribute to children entering exploitive labor include their families' need for extra income, children's need to provide a livelihood for themselves and/or their siblings, lack of parent(s) or caregiver(s), cultural practices, and lack of awareness of the hazards associated with exploitive child labor, including the worst forms of child labor. In addition, children have a variety of educational needs and encounter different barriers depending on their work status (e.g., children withdrawn from exploitive labor, underage children at risk of dropping out of school and joining the labor force, children engaged in exploitive labor in a particular sector).

C. Children Working in the South Asia Carpet Industry

The carpet manufacturing industry in South Asia—particularly concentrated in India, Nepal, and Pakistan—has been under international scrutiny for many years for its use of child labor. Carpets and rugs are important export products from these countries, sold primarily within the European and U.S. markets. Manufacturing of carpets provides jobs and livelihoods to many families in the region, but also poses health and safety risks to adults and children, and impedes children's education. However, reliable estimates on the magnitude of children currently work in the carpet industry in these three countries is unknown.

Various types of carpets are manufactured in the region, and as consumer tastes change, suppliers and manufacturers adjust to meet that demand. In the past few years, the industry has trended away from the most labor-intensive, hand-knotted carpets, in favor of hand-hooked or hand-tufted varieties that are quicker to produce, less durable and less expensive for the consumer. However, the impact of these shifts on the use of child labor in the industry is unclear. The use of child labor has been documented both in the production of the complex, hand-knotted varieties, as well as in the production of the less expensive, more modern types of carpets.

In Pakistan and India, carpet exporters typically engage contractors or middlemen, who place orders with weavers working in small weaving centers or in private homes. This arrangement is often referred to as the “cottage” industry. The hidden nature of the “cottage” industry in Pakistan and India can lead to greater involvement of children, with children working either directly with their families or as hired labor. In Nepal, carpets are typically produced in factories and the use of child labor within these factories has been documented.

Throughout the South Asia region, children migrate along known patterns, unaccompanied or with their families, from poorer and more rural regions to villages or cities to work in the carpet industry. Some migrate across national borders. Children enter into the industry in a variety of ways, including working alongside family members in family workshops or in situations of parental debt bondage; being sent by their families to other areas to work in the carpet industry; being recruited by brokers or trafficked into the industry; or working as apprentices to master weavers.

Many children begin work in the carpet industry at an early age, some as early as 6 or 7 years of age. They work long hours, for little pay, and are vulnerable to a variety of workplace hazards such as injuries from sharp tools, eye disease and strain due to insufficient light, respiratory disease due to inhaling wool fibers, gastrointestinal and skin problems, and skeletal deformation and pain due to cramped working conditions. Indeed, Pakistan's Child Labor Survey (1996) found that of all industries in which children were working in Pakistan, the carpet industry had the highest rate of illness and injuries.

Some children work in the industry under conditions of bondage, working to pay back debts owed by themselves or their families to an employer. In some cases, children accrue debts to their employers for their initial transportation to a work site and for food and lodging at the work site, which their wages are not adequate to cover. Many suffer physical and psychological abuse, including being beaten and denied food. Many also lack access to education or medical care.

All three countries have laws in place prohibiting forced labor and child labor, but the problems persist. In response to growing concern over the use of child labor, various governmental and non-governmental organizations (NGOs), as well as industry groups, have implemented initiatives to combat child labor in the carpet industry. These have focused on improved law enforcement; provision of educational opportunities for former child carpet-weavers; and labeling initiatives that provide guarantees to consumers that carpets were produced without child labor. These efforts have clearly led to a reduction in child labor in the industry, but the overall magnitude of their impact is unclear.

i. India. In 2000, approximately 4.1 percent of children ages 5-14 were counted as working in India. However, accurate estimates of the number of children working in carpet-weaving are unavailable. Bonded child labor is known to occur in the carpet industry in India. Some children are trafficked into these situations of bondage; both Indian children trafficked from other parts of the country and Nepali children trafficked across the border.

Over the past decade, the industry has increasingly shifted toward home-based production, making enforcement and monitoring still more difficult. In addition, the concentration of the industry in the “carpet belt” in the eastern part of the State of Uttar Pradesh has given way to more spread-out production, with pockets in the States of Uttar Pradesh, Bihar, Madhya Pradesh, Jharkhand, Haryana, Jaipur, and others. There are indications that some of the newer carpet-producing zones are areas from which children formerly migrated to work in the “carpet belt.”

ii. Nepal. In 1999, approximately 39.6 percent of children ages 5-14 were counted as working in Nepal. However, accurate estimates of the number of children working in carpet-weaving are unavailable. Children work in both carpet factories and in informal, “cottage,” carpet production in Nepal. The proportion of children working in factory settings compared with cottage settings is reportedly much higher in Nepal than in India or Pakistan. Some children work in the industry under conditions of bondage, but the incidence of child bonded labor in carpet-weaving is reportedly less in Nepal than in the other two countries. A large percentage of children working in carpet factories are members of ethnic minority groups, and many have sisters, brothers, or close relatives already working in carpet-weaving. Some are reportedly trafficked to work in the industry, or brought to employers by employment “brokers.”

Reports suggest that recent political unrest and armed conflict in Nepal have led to greater migration of children, often unaccompanied, from conflict-affected districts to cities to find work. The majority of carpet factories in Nepal are concentrated in the Kathmandu valley, an attractive location for child migrants. However, the entire industry has experienced a decline in production since its high point in the early 1990s. The impact of the industry decline on the use of child labor in the industry is not clear.

iii. Pakistan. In 1999-2000, approximately 16.4 percent of children ages 10-14 were counted as working in Pakistan. The number working in the carpet industry is unknown, although a Rapid Assessment carried out by the ILO in 2004 found that children under 15 made up about 40 percent of the sample carpet-weaving population covered by the study. The sample included both adults and children. Carpet-weaving is an important export industry for Pakistan, providing employment for many families; however, the nature of the industry also is likely to increase the risk of exploitive child labor. Children are paid very low wages and are sometimes physically or verbally abused at the work site. Many work under conditions of debt bondage, and are confined to the employer's premises until their debts are fully paid. Parents sometimes take advance payments from employers in exchange for their children's labor.

Children work in carpet-weaving throughout Pakistan, and many belong to ethnic minority groups. For instance, in the North-West Frontier Province, carpet-weaving is concentrated among Afghan refugees; in parts of Sindh Province, Bihari and Burmese communities are primarily involved in carpet-weaving; and in Balochistan, Hazara tribes are primarily involved in the industry.

2. Scope of Work

A. General Research Requirements

i. Research Objective. USDOL seeks a qualified organization and/or Association to carry out research and data collection on children working in the carpet industry in India, Nepal, and Pakistan. Given the public attention paid to child labor in the carpet industry, the study should be designed to provide the U.S. Government with reliable and accurate data and information on the incidence and nature of children working in the carpet industry. Research should include all aspects of the supply chain leading up to the production of carpets (i.e., yarn manufacturing and yarn-dyeing), as well as the weaving itself. To the extent that families play a role in determining the work situation of children (i.e., children under parental debt bondage), research should also be conducted on the impact of family characteristics and the role of parents in children's work status. The results of this study will be used to increase the knowledge base on child labor and inform policy and project considerations.

ii. Research Concepts and Definitions. Applicants must be familiar with how international standards on and definitions of child labor translate into statistical terms. Data analysis on working children should be disaggregated to the extent possible between children working in acceptable work and exploitive child labor.

iii. Research Questions. Applicants must seek to answer the following primary and secondary questions.

• How prevalent is the use of children in the carpet industry in India, Nepal, and Pakistan?

• What is the incidence of working children in the carpet industry in India, Nepal, and Pakistan?

• What are the demographic characteristics of children and families working in the carpet industry?

a. What are the individual characteristics of children working in the carpet industry (i.e., age, sex)?

b. What is the educational status of children working in the carpet industry, and what is the educational status of their families?

c. What are the household demographics, working status, and socioeconomic status of working children's families?

• What is the relationship between a child's working status and educational opportunities?

a. Are there particular educational barriers that make children more vulnerable to working the carpet industry?

• To what extent do children and families migrate to work in the carpet industry?

a. What role does the family play in children's migration?

• To what extent are children working in the carpet industry working under forced and/or bonded labor conditions?

a. To what extent are children trafficked into these situations?

• What particular aspects of the carpet industry encourage or discourage the use of children? Are there aspects of the carpet industry that lead to greater exploitation of children?

a. How do children enter into the carpet industry?

b. What percentage of children work for their families vs. work as hired labor?

c. Are there wage/payment systems that lead to exploitation of child workers?

d. Is more or less child labor anticipated in the carpet industry in each country in the future?

• What are children's working conditions in the carpet industry?

a. In what specific activities are children engaged?

b. What are the occupational safety and health hazards to which children are exposed?

c. What are the typical hours of work?

d. How are children paid (piece rate, by time period, etc.), and how does this relate to their overall conditions of work?

e. How does children's work affect their participation in education?

f. To what extent are children abused in the workplace, and by whom? And what is the nature of that abuse?

• In what regions of each country is the carpet industry concentrated, and are there concentrated areas where children are most likely to be working?

• How are market demands and consequent shifts in the carpet industry affecting the use of child labor?

a. What changes are occurring in supply and demand in the carpet industry in the South Asian region?

b. To what extent are children working in the carpet sector involved in producing carpets for export?

c. Is the use of child labor increasing or decreasing in certain areas due to changes in the industry?

• What have been the best practices to eliminate child labor in the carpet industry (e.g., government, industry, employer, and other nongovernmental efforts)?

iv. Research Knowledge-Base. Applicants should demonstrate a thorough knowledge of previous research on child labor in the carpet industry for each target country and seek to build upon past research efforts. Currently-available research includes, but is not limited to:

• Global Research and Consultancy Services (2006). Child Labour in Carpet Industry in India: Recent Developments. International Labor Rights Fund;

• Srivastava, Ravi K. (2005). Bonded labour in India: its incidence and pattern. ILO/Special Action Programme on Forced Labour;

• Mueen Nasir, Zafar (2004). A rapid assessment of bonded labour in the carpet industry of Pakistan. ILO/Special Action Programme on Forced Labour;

• ILO/IPEC (2002). A rapid assessment of child labour in the Nepalese carpet sector; and

• ILO/Special Action Programme on Forced Labour (2002). Annotated bibliography on forced/bonded labour in India.

Applicants must make every effort not to duplicate existing research or survey methodologies on child labor. Instead, applicants must use, improve, and/or refine existing methodologies, or propose new methodologies for collecting data on child labor in the carpet industry. Applicants should be familiar with ILO-IPEC statistical tools developed by the Statistical Information and Monitoring Program on Child Labor (SIMPOC) for collecting information on exploitive child labor, http://www.ilo.org. These tools include survey methodologies and data collection instruments.

B. Research Methodology Requirements

Applicants must develop creative and innovative research methodologies to gather information in order to answer the research questions outlined in this solicitation. Applicants are expected to consider the social, economic, and cultural contexts of the target countries when formulating research methodologies. However, methodologies should be designed to allow for the aggregation of data among the three countries and relevant cross-country comparisons. Applicants must take into account country-specific issues that could affect project results, and meaningfully incorporate those into the proposed methodology to reduce threats to successful research implementation.

While Applicants may rely on secondary resources, the main purpose of this study is to conduct primary data collection. The research methodology should include definitions of key concepts and variables; explain the proposed sampling designs; describe the survey instrument(s) that will be used to carry out the data collection activities; develop a data processing plan; and provide a plan for pilot-testing the methodology in the field. In developing the research methodology, Applicants must include the elements listed below.

i. Research Questions. Applicants must answer the research questions outlined in Section I. 2.A.iii. of this solicitation. Applicants may propose to USDOL additional research questions that lay out clear, concise hypotheses.

ii. Research Design. The research design must be suitable for responding to the research questions, and must involve quantitative research. As appropriate, Applicants should propose to use a combination of quantitative and qualitative approaches. The quantitative research should be carried out through a cross-sectional survey research design. To the extent possible, applicants should propose a research design that results in statistically-valid information at the national, regional, and/or local level on the prevalence and incidence of child labor in the carpet industry of each country.

iii. Survey Design. Applicants should propose a detailed survey design plan that will guide primary data collection. Applicants should use existing data where applicable, and research and survey questionnaires to help inform primary data collection. Applicants should provide a detailed description of the data collection process including the timing of the data collection taking into account relevant school calendars; development of the survey questionnaires; and pilot-testing the data collection instrument(s) to refine the research methodology. Applicants must develop survey instrument(s) that will most appropriately and accurately capture the information needed to answer the research questions listed above. The survey design may include a variety of data collection methods as appropriate, including household surveys, establishment surveys, key informant interviews, school surveys, capture-recapture methods, and others to most accurately measure child labor in the carpet industry. Applicants must explain why the proposed data collection instrument is the most appropriate method to answer the research questions and carry out primary data collection. Applicants must also describe the subjects from whom data will be collected (e.g., children, parents, employers).

iv. Population and Sample. Applicants must provide a detailed sampling plan. The sampling plan should describe how the sample will be selected, how many subjects will be surveyed and to what extent the sample will be representative of the number of children working in the carpet industry in each of the countries. Applicants should also include a map showing the regions in the three countries where the carpet industry is concentrated, and those that will be targeted for research.

v. Data Coding and Management. Applicants must describe how the data will be inputted, coded and managed, and how a data dictionary and codebook will be developed to identify the variables included in the data set. Applicants must also include in the proposal an explanation of how data quality will be assured, including a discussion of how missing data will be handled.

vi. Data Analysis. Applicants must include a detailed data analysis plan. Data analysis on working children should be disaggregated to the extent possible between children working in acceptable work and exploitive child labor. The data analysis plan should propose ways in which the data collected will be analyzed in order to appropriately address all of the research questions listed in Section I.2.A.iii, and differentiate among the categories of working children. The data analysis plan must carry out descriptive analysis of the data collected. In instances where Applicants propose to carry out multivariate analyses, the rationale must include a justification, and explanatory and outcome variables of interest must be clearly specified. For descriptive or multivariate analysis of the data, Applicants should describe the computer programs and must specify the statistical procedures for analyzing the data. In addition, Applicants must propose an outline for the final report in which the final results will be presented. The outline must demonstrate how this format will answer the research questions based on the different categories of working children. The analysis should include a comparison of the study findings with those of other studies or anecdotal evidence.

vii. Dissemination. Applicants should propose ways in which research findings will be disseminated to stakeholders in the target countries. As part of data collection, Applicants should organize and execute consultative meetings with key stakeholders in each of the three countries, as well as an additional consultative meeting near the end of the research in Washington, DC, with USDOL and other U.S. Government officials, to discuss the findings of all research conducted under this Cooperative Agreement. The number of key stakeholders for each country should not exceed 30 participants, and should be determined, after award, in consultation with USDOL.

viii. Limitations to Study. Applicants should describe the factors that are anticipated to be limitations to the study.

ix. Human Subjects and Confidentiality Considerations. Applicants must describe a plan for ensuring the protection of human subjects and the confidentiality of the respondents.

II. Award Information

Type of assistance instrument for projects to be awarded under this solicitation: Cooperative Agreement. USDOL's involvement in project implementation and oversight is outlined in Section VI.2. The duration of the project funded by this solicitation is up to three years. The start date of project activities will be negotiated upon awarding of the Cooperative Agreement but will be no later than September 30, 2007.

Up to USD 3.5 million will be awarded under this solicitation for the child labor research in the carpet sectors in India, Nepal and Pakistan. USDOL will award a Cooperative Agreement to an individual, organization, or Association. The Grantee may not subgrant any of the funds obligated under this Cooperative Agreement, but may use subcontracts, See Section IV.5.B for further information on subcontracts and Appendix B for additional clarification on the differences between subgrants and subcontracts.

III. Eligibility Information

1. Eligible Applicants

Any commercial, educational, or non-profit organization(s), including any faith-based, community-based, or public domestic, foreign or international organization(s) capable of successfully conducting scientifically-valid research is eligible to apply. However, the Grantee (or Lead Grantee, in the case of an Association) is not allowed to charge a fee (profit). Neutral, non-religious criteria that neither favor nor disfavor religion will be employed in the selection of the Cooperative Agreement recipient. Applications from foreign governments and entities that are agencies of, or operated by or for, a foreign state or government will not be considered.

If any entity identified in the application as an Associate does not sign the Cooperative Agreement, the Lead Grantee must provide, within 60 days of award, either a written subcontract agreement with such entity, acceptable to USDOL, or an explanation as to why that entity will not be participating in the Cooperative Agreement. USDOL reserves the right to re-evaluate the award of the Cooperative Agreement in light of any such change in an entity's status and may terminate the award if USDOL deems it appropriate.

For the purposes of this proposal and the Cooperative Agreement award, the Lead Grantee will be: (1) The primary point of contact with USDOL to receive and respond to all inquiries, communications and orders under the project; (2) the only entity with authority to withdraw or draw down funds through the Department of Health and Human Services-Payment Management System (HHS-PMS); (3) responsible for submitting to USDOL all deliverables, including all technical and financial reports related to the project, regardless of which Associate performed the work; (4) the sole entity to request or agree to a revision or amendment of the award or the Project Document; and (5) responsible for working with USDOL to close out the project. Note, however, that each Associate is ultimately responsible for overall project performance, regardless of any assignment of specific tasks, but Associates may agree, among themselves only, to apportion the liability for such performance. Each Associate must comply with all applicable federal regulations and is individually subject to audit.

In accordance with 29 CFR part 98, entities that are debarred or suspended from receiving federal contracts or grants shall be excluded from Federal financial assistance and are ineligible to receive funding under this solicitation.

2. Other Eligibility Requirements

Applicants must include their Dun and Bradstreet Number (DUNS) in the organizational unit section of Block 8 of the SF 424. For Associations, Block 8 of the SF 424 should contain the DUNS number of the proposed Lead Grantee, and a list of the DUNS number(s) of all proposed members of the Association should be included as an attachment to the SF 424. DUNS is an acronym which stands for “Data Universal Numbering System,” and a DUNS number is a unique nine-digit number used to identify a business. Beginning October 1, 2003, all Applicants for Federal grant funding opportunities are required to include a DUNS number with their application per the Office of Management and Budget Notice of Final Policy Issuance, 68 Federal Register 38402 (June 27, 2003). The DUNS number is a nine-digit identification number that uniquely identifies business entities. There is no charge for obtaining a DUNS number. To obtain a DUNS number call 1-866-705-5711 or access the following Web site: http://www.dnb.com/us/.

Requests for exemption from the DUNS number requirement must be made to the Office of Management and Budget (OMB), Office of Federal Financial Management at 202-395-3993. If no DUNS number is provided in the application, and an Applicant does not provide evidence of an OMB exemption from the DUNS number requirement, then the application will be considered non-responsive.

After receiving a DUNS number, Applicants must also register as a vendor with the Central Contractor Registration through the following Web site: http://www.ccr.gov or by phone at 1-888-227-2423. Central Contractor Registration (CCR) should become active within 24 hours of completion. For any questions regarding registration, please contact the CCR Assistance Center at 1-888-227-2423.

After registration, Applicants will receive a confirmation number. The Point of Contact listed by the organization will receive a Trader Partnership Identification Number (TPIN) via mail. The TPIN is, and should remain, a confidential password.

3. Cost Sharing or Matching Funds

This solicitation does not require Applicants to share costs or provide matching funds, however, Applicants are encouraged to do so, and this is a rating criteria worth up to five (5) additional points [see Section V.1.F]. Applicants who propose matching funds, in-kind contributions, and other forms of cost sharing must indicate their estimated dollar value in the Standard Form (SF) 424 and SF 424A submitted as part of the application. Grantees should note that they will be responsible for reporting on these funds quarterly in financial reports (SF 269s) and are liable for meeting the full amount of these costs during the life of the Cooperative Agreement.

IV. Application and Submission Information

1. Application Package

This solicitation contains all of the necessary information, including information on required forms, needed to apply for Cooperative Agreement funding. This solicitation is published as part of this Federal Register notice. Additional copies of the Federal Register may be obtained from your nearest U.S. Government office or public library or online at: http://www.archives.gov/federal_register/index.html.

2. Content and Form of Application Submission

Applications may be submitted to USDOL in hard copy or electronically at http://www.grants.gov. Applicants electing to submit hard copies must submit one (1) blue ink-signed original, complete application, plus three (3) copies of the application. The application must consist of two (2) separate parts, (1) a Cost Proposal and (2) a Technical Proposal, as described below. Applicants should number all pages of the application. All parts of the application must be written in English, in 10-12 pitch font size.

Part I of the application, the Cost Proposal, must contain the Standard Form (SF) 424 Research and Related Form, Application for Federal Assistance, and Sections A-K of the Budget Information Form SF 424 (R&R). Applicants are also required to submit a detailed outputs-based budget that links costs to project activities and an accompanying budget narrative. A sample outputs-based budget are available from ILAB's Web site at http://www.dol.gov/ilab/grants/bkgrd.htm. Copies of the SF 424 (R&R) and SF 424 (R&R) Budget are available online at http://www.grants.gov/agencies/aapproved_standard_forms.jsp. The individual signing the SF 424 on behalf of the Applicant must be authorized to bind the Applicant.

The Cost Proposal must contain information on the Applicant's indirect costs, using the form provided on ILAB's Web site at http://www.dol.gov/ilab/grants/bkgrd.htm. Applicants should note all instructions outlined on this form and include one of the following supporting documents, as applicable, in their application: (1) A current, approved Cost Allocation Plan (CAP); (2) a current Negotiated Indirect Cost Rate Agreement (NICRA); or (3) a Certificate of Direct Costs. In the case of Associations, each member of the Association must submit a copy of the aforementioned documents.

All Applicants are requested to complete the Survey on Ensuring Equal Opportunity for Applicants (OMB No. 1890-0014), which has been provided in Appendix D.

Part II, the Technical Proposal, demonstrates the Applicant's capabilities to plan and implement the proposed research project in accordance with the provisions of this solicitation. The Technical Proposal must not exceed 45 single-sided (8-1/2″ x 11″), double-spaced pages with 1-inch margins. The Technical Proposal must identify how Applicants will carry out the Scope of Work in Section I.2. of this solicitation. The following information is required:

• A two-page abstract summarizing the proposed project and Applicant profile information including: Applicant name, contact information of the key contact person at the Applicant's organization in case questions should arise (including name, address, telephone and fax numbers, and e-mail address, if applicable), project title, Association members and/or subcontractors (if applicable), proposed research activities, funding level requested and the amount of leveraged resources, if applicable;

• A table of contents listing the application sections;

• A research project description as specified in the Application Evaluation Criteria found in Section V.1. of this solicitation (maximum 45 pages);

• A bibliography that includes completes citations of research referenced in the proposal;

• A Work Plan identifying major project activities, deadlines for completing the activities and person(s) or institution(s) responsible for completing these activities.

Please note that the abstract, table of contents, bibliography, and Work Plan are not included in the 45-page limit for the research project description.

Any applications that do not consist of the above-mentioned parts and conform to these standards will be deemed unresponsive to this solicitation and may be rejected. Any additional information not required under this solicitation will not be considered.

3. Submission Dates, Times, and Address

Applications must be delivered (by hand, mail, or electronically through http://www.grants.gov) by 4:45 p.m., Eastern Time, August 3, 2007, to: U.S. Department of Labor, Procurement Services Center, 200 Constitution Avenue, NW., Room S-4307, Washington, DC 20210, Attention: Ms. Lisa Harvey, Reference: Solicitation 07-11. Applications sent by e-mail, telegram, or facsimile (FAX) will not be accepted. Applications sent by non-Postal Service delivery services, such as Federal Express or UPS, will be accepted; however, Applicants bear the responsibility for timely submission. The application package must be received at the designated place by the date and time specified or it will be considered unresponsive and will be rejected. Any application received at the Procurement Services Center after the deadline will not be considered unless it is received before the award is made and:

A. It is determined by the Government that the late receipt was due solely to mishandling by the Government after receipt at USDOL at the address indicated; and/or

B. It was sent by registered or certified mail not later than the fifth calendar day before the deadline; or

C. It was sent by U.S. Postal Service Express Mail Next Day Service-Post Office to Addressee, not later than 5 p.m. at the place of mailing two (2) working days, excluding weekends and Federal holidays, prior to the deadline.

The only acceptable evidence to establish the date of mailing of a late application sent by registered or certified mail is the U.S. Postal Service postmark on the envelope or wrapper and on the original receipt from the U.S. Postal Service. The only acceptable evidence to establish the date of mailing of a late application sent by U.S. Postal Service Express Mail Next Day Service-Post Office to Addressee is the date entered by the Post Office clerk on the “Express Mail Next Day Service-Post Office to Addressee” label and the postmark on the envelope or wrapper on the original receipt from the U.S. Postal Service.

If the postmark is not legible, an application received after the above closing time and date shall be processed as if mailed late. “Postmark” means a printed, stamped, or otherwise placed impression (not a postage meter machine impression) that is readily identifiable without further action as having been applied and affixed by an employee of the U.S. Postal Service on the date of mailing. Therefore, Applicants should request that the postal clerk place a legible hand cancellation “bull's-eye” postmark on both the receipt and the envelope or wrapper.

The only acceptable evidence to establish the time of receipt at USDOL is the date/time stamp of the Procurement Service Center on the application wrapper or other documentary evidence of receipt maintained by that office. Confirmation of receipt can be obtained from Ms. Lisa Harvey (see Section VII. for contact information). All Applicants are advised that U.S. mail delivery in the Washington DC area can be slow and erratic due to concerns involving contamination. All Applicants must take this into consideration when preparing to meet the application deadline.

Applicants may also apply online at http://www.grants.gov. Applicants submitting proposals online are requested to refrain from mailing a hard copy application as well. It is strongly recommended that Applicants using http://www.grants.gov immediately initiate and complete the “Get Registered” registration steps at http://www.grants.gov/applicants/get_registered.jsp. These steps may take multiple days to complete, and this time should be factored into plans for electronic submission in order to avoid facing unexpected delays that could result in the rejection of an application. It is also recommended that Applicants using http://www.grants.gov consult the Grants.gov Web site's Frequently Asked Questions and Applicant User Guide, which are available at http://www.grants.gov/help/faq.jsp, and http://www.grants.gov/assets/UserGuide_Applicant.pdf, respectively.

If submitting electronically through http://www.grants.gov, Applicants must save the application document as a .doc, .pdf, .txt or .xls file. Any application received on http://www.grants.gov after the deadline will be considered as non-responsive and will not be evaluated.

4. Intergovernmental Review

This funding opportunity is not subject to Executive Order 12372, “Intergovernmental Review of Federal Programs.”

5. Restrictions, Unallowable Activities, and Specific Prohibitions

USDOL/ILAB would like to highlight the following restrictions, unallowable activities, and specific prohibitions, as identified in OMB Circular A-122, 29 CFR part 95, 29 CFR part 98, and other USDOL policy, for all USDOL-funded child labor technical cooperation projects. If any Grantee has questions regarding these or other restrictions, consultation with USDOL/ILAB is recommended.

A. Pre-Award Costs

Pre-award costs, including costs associated with the preparation of an application submitted in response to this solicitation, are not reimbursable under the Cooperative Agreement (see also Section VI.3.E.

B. Subgrants

The funding for this program does not include authority for subgrants. Therefore, the Grantee may not subgrant any of the funds obligated under the Cooperative Agreement. Subgranting may not be included in the budget as a line item or in the text of the application. However, subcontracting may be included as a budget line item. Subcontracts must be awarded in accordance with 29 CFR 95.40-48 and are subject to audit, in accordance with the requirements of 29 CFR 95.26(d). Subcontracts awarded after the Cooperative Agreement is signed, and not proposed in the application, must be awarded through a formal competitive bidding process, unless prior written approval is obtained from USDOL.

The determination of whether a Grantee's relationship with a subrecipient would constitute a subgrant or subcontract is determined primarily with reference to an agreement's general purpose, programmatic functions, and responsibilities given to the subrecipient. These three elements should be closely examined, together with the usual characteristics (terms and performance standards, scope of work, etc.). In case of doubt, consultations are expected to be held between USDOL and the Grantee with a view to ensuring proper determination of the particular agreement. As a reference tool in determining whether an agreement is a subgrant or a subcontract, see Appendix B. The table in Appendix B is for reference only and does not create any legally binding obligation.

See also Section IV.5.F.-H. for related references on Grantee and subcontractor prohibitions related to Prostitution, Inherently Religious Activities, and Terrorism. In addition, the debarment and suspension rule, as outlined in 29 CFR 95.13 and 29 CFR part 98, applies to all subcontracts issued under the Cooperative Agreement. Grantees are responsible for ensuring that all subcontractors meet this requirement. Detailed information on subcontracts may be requested by USDOL during the Best and Final Offer (BAFO) process.

In compliance with Executive Orders 12876, as amended, 13230, 12928 and 13021, as amended, Grantees are strongly encouraged to provide subcontracting opportunities to Historically Black Colleges and Universities, Hispanic-Serving Institutions and Tribal Colleges and Universities.

C. Lobbying and Intent To Influence

Funds provided by USDOL for project expenditures under this Cooperative Agreement may not be used with the intent to influence a member of the U.S. Congress, a member of any U.S. Congressional staff, or any official of any federal, state, or local government in the United States (hereinafter “government official(s)”), to favor, adopt, or oppose, by vote or otherwise, any U.S. legislation, law, ratification, policy, or appropriation, or to influence in any way the outcome of a political election in the United States, or to contribute to any political party or campaign in the United States, or for activities carried on for the purpose of supporting or knowingly preparing for such efforts. This includes awareness raising and advocacy activities that include fund-raising or lobbying of U.S. federal, state, or local governments. (See OMB Circular A-122). This does not include communications for the purpose of providing information about the Grantees and their programs or activities, in response to a request by any government official, or for consideration or action on the merits of a federally-sponsored agreement or relevant regulatory matter by a government official.

Under the Cooperative Agreement, no activity, including awareness raising and advocacy activities, may include fund-raising, or lobbying of U.S. Federal, State or Local Governments (see OMB Circular A-122). COOPERATIVE AGREEMENT APPLICANTS CLASSIFIED UNDER THE INTERNAL REVENUE CODE AS A 501(c)(4) ENTITY (see 26 U.S.C. 501(c)(4)), MAY NOT ENGAGE ANY IN LOBBYING ACTIVITIES. According to the Lobbying Disclosure Act of 1995, as codified at 2 U.S.C. 1611, an organization, as described in Section 501(c)(4) of the Internal Revenue Code of 1986, that engages in lobbying activities directed toward the U.S. Government will not be eligible for the receipt of Federal funds constituting an award, grant, Cooperative Agreement, or loan.

D. Funds to Host Country Governments

USDOL funds awarded under Cooperative Agreements are not intended to duplicate existing foreign government efforts or substitute for activities that are the responsibility of such governments. Therefore, in general, Grantees may not provide any of the funds obligated under a Cooperative Agreement to a foreign government or entities that are agencies of, or operated by or for, a foreign state or government, ministries, officials, or political parties. However, subcontracts with foreign government agencies or entities that are agencies of, or operated by or for, a foreign state or government may be awarded to undertake relevant research activities subject to applicable laws only after the Grantee has determined that no other entity in the country is able to provide these services. In such cases, Grantees must receive prior USDOL approval before awarding the subcontract.

E. Miscellaneous Prohibitions

In addition, USDOL funds may not be used to provide for:

• The purchase of land;

• The procurement of goods or services used for private purposes by the Grantee's employees;

• Entertainment, including amusement, diversion, and social activities and any costs directly associated with entertainment (such as tickets, meals, lodging, rentals, transportation, and gratuities). Costs of training or meetings and conferences, when the primary purpose is the dissemination of technical information, are allowable. This includes reasonable costs of meals and refreshments, transportation, rental of facilities and other items incidental to such meetings and conferences. Costs related to child labor educational activities, such as street plays and theater, are allowable; and

• Alcoholic beverages.

F. Prostitution

The U.S. Government is opposed to prostitution and related activities which are inherently harmful and dehumanizing and contribute to the phenomenon of trafficking in persons. U.S. Grantees, and their subcontractors, cannot use funds provided by USDOL to lobby for, promote or advocate the legalization or regulation of prostitution as a legitimate form of work. Foreign-based NGOs, and their subcontractors, that receive funds provided by USDOL for projects to fight trafficking in persons cannot lobby for, promote or advocate the legalization or regulation of prostitution as a legitimate form of work while acting as a subcontractor on a USDOL-funded project. It is the responsibility of the Grantee to ensure its subcontractors meet these criteria, and this provision must be included in any applicable subcontract that the Grantee awards using USDOL funds and the Grantee will obtain a written declaration to such an effect from the subcontractor concerned.

G. Inherently Religious Activities

The U.S. Government is generally prohibited from providing direct financial assistance for inherently religious activities. The Grantee and/or its Associates may work with and subcontract with religious institutions; however, Federal funding provided under a USDOL-awarded Cooperative Agreement may not be used for religious instruction, worship, prayer, proselytizing, other inherently religious activities, or the purchase of religious materials. Neutral, non-religious criteria that neither favor nor disfavor religion were employed in the selection of Cooperative Agreement awardees and must be employed by the Grantee in the selection of subcontractors. This provision must be included in all subcontracts issued under the Cooperative Agreement. In addition, Grantees must take steps to ensure that inherently religious activities are clearly separated in time or physical space from those funded by USDOL under the Cooperative Agreement. For additional guidance, please consult the White House Web site for Faith-Based and Community Initiatives at http://www.whitehouse.gov/government/fbci/guidance/partnering.html. In addition, for any matters of uncertainty, USDOL should always be consulted for prior approval.

H. Terrorism

Applicants are reminded that U.S. Executive Orders and U.S. law prohibit transactions with, and the provision of resources and support to, individuals and organizations associated with terrorism. It is the policy of USDOL to seek to ensure that none of its funds are used, directly or indirectly, to provide support to individuals or entities associated with terrorism. It is the legal responsibility of the Grantee to ensure compliance with these Executive Orders and laws. Applicants to this solicitation and Grantees subsequently awarded funding by USDOL under this solicitation must check the following Web sites to assess available information on parties that are excluded from receiving Federal financial and nonfinancial assistance and benefits, pursuant to the provisions of 31 U.S.C. 6101, note, E.O. 12549, E.O. 12689, 48 CFR 9.404: http://www.epls.gov/ and http://www.treas.gov/offices/enforcement/ofac/sdn/t11sdn.pdf?This provision must be included in all applicable subcontracts issued under the Cooperative Agreement.

6. Review and Selection Process

The Office of Procurement Services at USDOL will screen all applications to determine whether all required elements, as identified in Section IV.2.above, are present and clearly identifiable. If an application does not include all of the required elements, including required attachments, it will be considered unresponsive and will be rejected. Once an application is deemed unresponsive, the Office of Procurement Services will send a letter to the Applicant, which will state that the application was incomplete, indicate which document was missing from the application, and explain that the technical review panel will be unable to rate the application.

The following documents must be included in the application package in order for the application to be deemed complete and responsive:

(1) A Cost Proposal;

(2) A Technical Proposal, including all the attachments listed in section IV.2.;

(3) The Applicant's most recent audit report, and those of any proposed Associates or sub-contractors (as applicable);

(4) Résumés of all key personnel candidates and all other professional personnel;

(5) Signed letters of agreement to serve on the project from all key personnel candidates;

(6) Information on the Applicant's previous and current grants, Cooperative Agreements, or contracts with USDOL and other Federal agencies that are relevant to this solicitation; and

(7) Signed partnership agreement(s), if applicable.

Each complete application will be objectively rated by a technical review panel against the criteria described in this solicitation. Applicants are advised that panel recommendations to the Grant Officer are advisory in nature. The Grant Officer may elect to select a Grantee on the basis of the initial application submission or the Grant Officer may establish a competitive or technically acceptable range from which qualified Applicants will be selected. If deemed appropriate, the Grant Officer may call for the preparation and receipt of final revisions of applications, following which the evaluation process described above, may be repeated, in whole or in part, to consider such revisions. The Grant Officer will make final selection determinations based on panel findings and consideration of factors that represent the greatest advantage to the government, such as cost, the availability of funds, and other factors. If USDOL does not receive technically acceptable applications in response to this solicitation, USDOL reserves the right to terminate the competition and not make any award. The Grant Officer's determinations for awards under this solicitation are final.

Note to All Applicants: Selection of an organization as a potential Cooperative Agreement recipient does not constitute approval of the Cooperative Agreement application as submitted. Before the actual Cooperative Agreement is awarded, USDOL may enter into negotiations about such items as program components, funding levels, and administrative systems in place to support Cooperative Agreement implementation. If the negotiations do not result in an acceptable submission, the Grant Officer reserves the right to terminate the negotiation and decline to fund the application. In addition, the Grant Officer reserves the right to negotiate program components further after award, during the project design consolidation phase and Project Document submission and review process. See Section VI.2.

7. Anticipated Announcement and Award Dates

Designation decisions will be made, where possible, within 45 days after the deadline for submission of proposals. USDOL is not obligated to make any awards as result of this solicitation, and only the Grant Officer can bind USDOL to the provision of funds under this solicitation. Unless specifically provided in the Cooperative Agreement, acceptance of a proposal and/or award of Federal funds does not waive any Cooperative Agreement requirements and/or procedures.

V. Application Review Information

1. Application Evaluation Criteria

This section identifies and describes the criteria that will be used to evaluate applications submitted in response to USDOL's Solicitation for Cooperative Agreement Applications on the basis of 100 points. Applicants are required to address all of the following rating factors in their Technical Proposal: Research Background and Significance (20 points), Research Design (40 points), Key Personnel/Management Plan/Staffing (20 points), Organizational Capacity (15 points), and Budget Cost-Effectiveness (5 points). Applicants should note that additional points may be given to applications realistically proposing to include committed non-Federal leveraged resources as described below in section V(1)(F) (Cost-Sharing 5 points).

Please note that all information and requirements presented in Section I.2. Scope of Work and Appendix A: USDOL's Definitions of Key Terms will be taken into consideration when evaluating applications on the basis of the technical rating criteria outlined in this section. Applicants' Cost Proposals will be considered when evaluating the rating criteria Research/Budget Cost-Effectiveness. When preparing the Technical Proposal, Applicants must follow the outline provided in Appendix C and ensure that the Technical Proposal does not exceed the maximum length of 45 pages.

A. Research Background and Significance: 20 points.

B. Research Methodology: 40 points.

C. Key Personnel/Management Plan/Staffing: 20 points.

D. Organizational Capacity: 20 points.

E. Budget Cost-Effectiveness: 5 points.

F. Cost-Sharing: 5 extra points.

Part A and B of the Technical Proposal constitute the “preliminary project design document” and serves as the basis of the final Project Document to be submitted and approved by USDOL after Cooperative Agreement award. Applicants' Technical Proposals must describe in detail the proposed research methodology to carry out the objective of this solicitation.

A. Research Background and Significance (20 Points)

Applicants must discuss their understanding of child labor in the carpet industry, research gaps on the topic, and the link to eliminating exploitive child labor. Applicants will be rated based on their: (a) knowledge of children working in the carpet industry and the specific country contexts that drives the supply and demand for children's work in the carpet industry in India, Nepal, and Pakistan; (b) familiarity with previously conducted research on child labor in their carpet industry and their strengths and limitations; (c) awareness of existing interventions to prevent child labor in the carpet industry's supply chain, particularly for the export sector; and (d) awareness of the policy and implementing environment in the research countries.

B. Research Methodology (40 Points)

Applicants must discuss their proposed research methodology to address the research objective, research questions, and methodological requirements detailed in Section I.2. Applicants will be rated on the strength of their proposed research methodology, and the feasibility of carrying out all stated research activities within the timeframe of this Cooperative Agreement. Applicants must include the sections outlined for the research methodology in Appendix C. All sections of the research methodology listed in Appendix C will be evaluated for the Technical Proposal.

C. Key Personnel/Management Plan/Staffing (20 Points)

Successful performance of the proposed work depends heavily on the management skills and qualifications of the Principal Investigator/Project Director (PI/PD), as well as the project research team. Accordingly, in its evaluation of each application, USDOL will consider the following:

• Whether the PI/PD is appropriately trained and well-suited to carry out the scope of work;

• The appropriateness of the scope of work to the experience level of the PI/PD and other researchers;

• The complementary and integrated expertise of the proposed research team to successfully carry out the scope of work; and

• The potential of the PI/PD and other proposed researchers to translate their previous knowledge, skills and research experience to the areas of study under the current solicitation, and their potential to make significant contributions to the field of child labor research and data collection.

In order to promote and increase national and local capacity, USDOL encourages the hiring of qualified national experts and data collection organizations. USDOL also encourages Applicants to consider strategies that aim to develop the capacity of private sector national or local organizations to carry out research and data collection activities on child labor. (See section IV.5.D.) Applicants that propose feasible strategies to develop local or national capacity will, all other things being equal, be rated higher on this factor.

i. Key Personnel. Applicants must identify all key personnel/candidates proposed to carry out the requirements of this solicitation. “Key personnel” are staff (PI/PD and Child Labor Research Specialist) that are essential to the successful operation of the project and completion of the proposed work.

(1) The PI/PD will be responsible for overall project management, supervision, administration, and implementation of the requirements of the Cooperative Agreement. The PI/PD will establish and maintain systems for research operations, including methodological development; ensure that all Cooperative Agreement deadlines are met and outputs submitted; maintain working relationships with project stakeholders and partners; and oversee the preparation and submission of progress and financial reports. The PI/PD must have a Ph.D. and a minimum of five years of professional experience in a leadership role in implementation of large-scale research studies in the social sciences. Candidates with additional years of experience including experience working with officials of national statistical offices will be rated more highly. Preferred candidates must also have knowledge of exploitive child labor issues, and experience in the development of research methodologies to investigate the worst forms of child labor. Fluency in English is required.

(2) The Child Labor Research Specialist will provide leadership in developing the technical aspects of this project in collaboration with the PI/PD. This person must have at least three years experience in working successfully with research teams, and assisting with the development and implementation of research projects on child labor in developing countries. This person must also have demonstrated experience in survey and research design and data analysis. Fluency in English is required.

(3) In addition to key personnel, a technical specialist in sampling design should be included in the project team, but does not have to be dedicated to the project 100 percent of the time.

Applicants must include a résumé, as well as a description of the roles and responsibilities of all key and other professional personnel (as described below) proposed. Résumés must be submitted as an attachment to the application and will not count toward the page limit. At a minimum, each résumé must include the following:

• The educational background and previous work experience for each key and other professional personnel to be assigned to the project, including position title, duties, dates, employing organizations, and clearly defined duties;

• The special capabilities of key personnel that demonstrate prior experience in organizing, managing and performing similar efforts; and

• The current employment status of key personnel and availability for this project.

Applicants must also indicate whether the proposed work will be performed by persons currently employed by the applying organization(s), and if so, for how long, or is dependent upon planned recruitment or subcontracting.

Applicants must also include a completed salary history form SF 1420 for each key personnel candidate in their application. This form is available from the U.S. Agency for International Development's Web site at: http://www.usaid.gov/forms/AID1420-17.doc. A link to this form is also available on USDOL's Web site: http://www.dol.gov/ilab/grants/bkgrd.htm.

All key personnel must allocate 100 percent of their time to the project. The PI/PD and Child Labor Research Specialist positions must not be combined. Proposed key personnel candidates must sign letters of agreement to serve on the project and indicate their availability to commence work within 30 calendar days of the Cooperative Agreement award. Please note: If key personnel candidates are not designated, or if letters of agreement to serve on the project or résumés are not submitted as part of the application for each key personnel candidate, the application will be considered unresponsive and will be rejected. The letters of agreement, résumés, and salary history forms (SF 1420) must be submitted as attachments to the application and will not count toward the page limit.

Key personnel must be employed by the Grantee, not a subcontractor. In the case of an Association, the PI/PD must be employed by the Lead Grantee. In cases of Associations where Applicants propose that other key personnel would not all be employed by the Lead Grantee, a clear indication of the following must be provided in the application: the rationale for dividing key personnel among the members; the lines of authority among key personnel and other staff; the process of supervision and evaluation of personnel who are not members of the same organization; the process by which all parties would come to agreement on key implementation issues; and mechanisms of conflict resolution should the need arise.

i. Other Professional Personnel. Applicants must identify other program personnel deemed necessary for carrying out the requirements of this solicitation, including data analysts, research assistants, programmers, editors, etc. Applicants must also indicate whether the proposed work by other professional personnel who are employed or have been identified will be performed by persons currently employed by the organization(s).

ii. Management Plan. Applicants will be rated based on the clarity and quality of the information provided in the management plan. The plan must include (a) a description of the functional relationship between elements of the project's management structure; and (b) the responsibilities of project staff and management and the lines of authority between project staff and other elements of the project.

iii. Staff Loading Plan. The staff loading plan must identify all key tasks and the person-days required to complete each task. Labor estimated for each task must be broken down by individuals assigned to the task, including PI/PD, Child Labor Research Specialist, data analysts, research assistants, programmers, editors, consultants, and subcontractors. All key tasks should be charted to show the time required to perform them by months or weeks. Applicants will be rated based on the clarity and quality of the information provided in the staff loading plan.

D. Organizational Capacity (15 Points)

Under this criterion, Applicants must present the qualifications of the organization(s) implementing the project. The evaluation criteria in this category are as follows:

i. International and U.S. Government Grant Experience. Applicants must have international experience conducting scientifically valid research in the social sciences, preferably on child labor and in the countries of interest.

The application must include information on previous and current grants, Cooperative Agreements, or contracts of the Applicant with USDOL and other Federal agencies that are relevant to this solicitation, including:

(1) The organizations for which the work was done;

(2) A contact person in that organization with his/her current phone number;

(3) The dollar value of the grant, contract, or Cooperative Agreement for the project;

(4) The time frame and professional effort involved in the project;

(5) A brief summary of the work performed; and

(6) A brief summary of accomplishments.

This information on previous grants, Cooperative Agreements, and contracts held by the Applicant must be provided in appendices and will not count against the maximum page requirement. USDOL reserves the right to contact the organizations listed and use the information provided in evaluating applications.

Note to All Applicants: In judging organizational capacity, USDOL will take into account not only information provided by an Applicant, but also information from USDOL and others regarding past performance of organizations implementing USDOL-funded child labor projects, or activities for USDOL and others. Past performance will be rated by such factors as the timeliness of deliverables and the responsiveness of the organization and its staff to USDOL or grantor communications regarding deliverables and Cooperative Agreement or contractual requirements. In addition, the performance of the organization's key personnel on existing projects with USDOL or other entities, whether the organization has a history of replacing key personnel with similarly qualified staff, and the timeliness of replacing key personnel, will also be taken into consideration when rating past performance. Lack of past experience with USDOL projects, Cooperative Agreements, grants, or contracts is not a bar to eligibility or selection under this solicitation.

ii. Country Presence and Collaborations. Given the need to conduct in-country research, Applicants will be evaluated on their ability to start up research activities soon after signing a Cooperative Agreement. Having country presence, or partnering with in-country organizations, represents the best chance of expediting the implementation of research activities. In their application, Applicants must address their organization's country presence; collaborative arrangements including those with host country governments, NGOs, and national research organizations, as applicable; and ability to start up project activities in a timely fashion.

iii. Fiscal Oversight. Applicants will be evaluated on their ability to demonstrate evidence that the organization has a sound financial system in place. If an Applicant is a U.S.-based, non-profit organization already subject to the single audit requirements, the Applicant's most recent single audit, as submitted to the Federal Audit Clearinghouse, must accompany the application as an attachment. In addition, applications must show that they have complied with report submission timeframes established in OMB Circular A-133. If an Applicant is not in compliance with the requirements for completing their single audit, the application will be considered unresponsive and will be rejected. If an Applicant is a for-profit or foreign-based organization, a copy of its most current independent financial audit must accompany the application as an attachment.

Applicants should also submit a copy of the most recent single audit report for all proposed U.S.-based, non-profit partners, Association members and subcontractors that are subject to the Single Audit Act. If the proposed Association member(s) or partner(s) is a for-profit or foreign-based organization, a copy of its most current independent financial audit should accompany the application as an attachment.

If the audit submitted by the Applicant reflects any adverse opinions, the application will not be further considered by the technical review panel and will be rejected. USDOL reserves the right to ask further questions on any audit report submitted as part of an application. USDOL also reserves the right to place special conditions on Grantees if concerns are raised in their audit reports.

In order to expedite the screening of applications and to ensure that the appropriate audits are attached to the proposals, Applicants must provide a cover sheet to the audit attachments listing all proposed Association members and subcontractors. These attachments will not count toward the application page limit.

E. Budget Cost-Effectiveness (5 Points)

This section will be evaluated on the basis of information contained in Applicants' Cost Proposals in accordance with applicable Federal laws and regulations. The budget must comply with Federal cost principles (which can be found in the applicable OMB Circulars). The requirements for Cost Proposals, including an Outputs-Based Budget, are listed in Section IV.2. A budget summary must be included in the application and should include the cost breakdown.

The evaluation of this section will focus on the extent to which the budget reflects research goals and methodological design consistent with the Work Plan in a cost-effective way to reflect budget/performance integration.

All projected costs should be reported, as they will become part of the Cooperative Agreement upon award. In their Cost Proposal (Part I of the application), Applicants must reflect a breakdown of the total administrative costs into direct administrative costs and indirect administrative costs. The Grant Officer reserves the right to negotiate administrative cost levels prior to award.

This section of the application must explain the costs for performing all of the requirements presented in this solicitation and for producing all required reports and other deliverables (see Section VI.4.). The project budget must therefore include funds to plan, implement, and report on all research activities and other deliverables (including annual single audits or attestation engagements, as applicable) and finance at lease four trips to be taken by the PI/PD to meet with USDOL officials in Washington, DC.

In addition, the budget should include a contingency provision, calculated at five percent of the project's total direct costs. USDOL has determined that the use of contingency provision funds for USDOL-funded projects is essential to address circumstances affecting specific budget lines that relate to one or more of the following: (1) Inflation affecting specific project costs; (2) UN System or foreign government-mandated salary scale or benefits revisions; and (3) exchange rate fluctuations. USDOL also recognizes that certain extraordinary and unforeseen circumstances may arise that will lead to a need for exceptions to the aforementioned uses of contingency provision funds, related to the need for modifications to budgets or time extensions. These include but are not limited to the following: (1) Changes in a country's security environment; (2) natural disasters; (3) civil or political unrest/upheavals or government transitions; or (4) delays related to loss of or damage to project property. USDOL will not provide additional funding to cover unanticipated costs.

Applicants are also instructed that the project budget submitted with the application must include all necessary and sufficient funds, without reliance on other contracts, grants, or awards, to implement's proposed project activities and to achieve proposed research goals under this solicitation. If anticipated funding from another contract, grant, or award fails to materialize, USDOL will not provide additional funding to cover these costs.

Where applicable, applicants are encouraged to discuss the possibility of exemption from customs and Value Added Tax (VAT) with host government officials during the preparation of an application for this Cooperative Agreement. While USDOL encourages host governments to not apply customs or VAT taxes to USDOL-funded programs, some host governments may nevertheless choose to assess such taxes. USDOL may not be able to provide assistance in this regard. Applicants should take into account such costs in budget preparation. If major costs are omitted, a Grantee may not be allowed to include them later.

Note to Applicants: After award, grantees must obtain prior approval from USDOL before using unobligated contingency funds. Twelve months before the project ends, after calculating the amounts needed for cost increases in the remaining life of the project, forecasted remaining funds in the contingency provision funds may be used to conduct additional data analysis, report writing, and augment data dissemination plans to increase the availability of the study findings.

F. Cost Sharing (5 extra Points)

USDOL will give up to five (5) additional rating points to applications that include committed non-U.S. federal government resources that significantly expand the dollar amount, size and scope of the project. These programs or activities must complement and enhance project objectives. To be eligible for the additional points, Applicants must list the source(s) of funds, the nature, and possible activities anticipated with these resources under this Cooperative Agreement.

VI. Award Administration Information

1. Award Notices

The Grant Officer will notify Applicants of designation results as follows:

Designation Letter: The designation letter signed by the Grant Officer will serve as official notice of an organization's designation. The designation letter will be accompanied by a Cooperative Agreement and USDOL-OCFT's 2007 Management Procedures and Guidelines (MPG).

Non-Designation Letter: Any organization not designated will be notified formally of the non-designation. However, organizations not designated must formally request a debriefing in order to be provided with the basic reasons for the determination.

Notification of designation by a person or entity other than the Grant Officer is not valid.

2. Roles and Responsibilities of USDOL and Grantees

The principal purpose of the USDOL-Grantee relationship is the transfer of money, property, services, or anything of value to the recipient in order to accomplish a public purpose of support or stimulation authorized by Federal statute. The Grantee is not allowed to charge a fee (profit). In general, USDOL's Bureau of International Labor Affairs/Office of Child Labor, Forced Labor and Human Trafficking (ILAB/OCFT) uses a Cooperative Agreement modality with its Grantees.

USDOL's involvement focuses on working with the Grantee in order to refine the Project Design/Project Document and its corresponding budget; and monitor implementation through progress reports. USDOL involvement is generally characterized by written comments and oral feedback tied to the approval of deliverables outlined in the Cooperative Agreement. USDOL staff may also conduct field visits to the project.

Applicable provisions of law and regulation, including those provided for in the USDOL Cooperative Agreement with the Grantee, apply to subcontracts entered into under USDOL-funded projects.

3. Administrative and National Policy Requirements

A. General

Grantees are subject to applicable U.S. Federal laws (including provisions of appropriations laws) and regulations, Executive Orders, applicable OMB Circulars, and USDOL policies. If during project implementation a Grantee is found in violation of U.S. government laws and regulations, the terms of the Cooperative Agreement awarded under this solicitation may be modified by USDOL; costs may be disallowed and recovered; the Cooperative Agreement may be terminated; and USDOL may take other action permitted by law. Determinations of allowable costs will be made in accordance with the applicable U.S. Federal cost principles.

B. Project Audits and External Auditing Arrangements

Applicants are reminded to budget for compliance with the annual single audits or attestation engagements as applicable (see below). Costs for these audits or attestation engagements must be included in direct or indirect costs, whichever is appropriate, in accordance with the cost allocation procedures approved by the U.S. Federal cognizant agency.

USDOL has also contracted with an independent external auditor to conduct project-specific attestation engagements at USDOL's expense to supplement the coverage provided by the audits/engagements that Grantees must arrange. Grantees scheduled for examination by USDOL's contractor will be notified approximately two to four weeks prior to the start of the engagement. Please note the following requirements:

i. U.S.-based non-profit Grantees must conduct audits in accordance with 29 CFR parts 96 and 99, which codify the requirements of the Single Audit Act and OMB Circular A-133, and must comply with the timeframes established in those regulations for the submission of their audits to the Federal Audit Clearinghouse. Grantees must send a copy of their single audit to their assigned USDOL Grant Officer Technical Representative (GOTR) at the time it is submitted to the Federal Audit Clearinghouse.

ii. Foreign-based Grantees and private for-profit Grantees that are awarded a Cooperative Agreement under this solicitation must arrange for the annual performance of an attestation engagement, conducted in accordance with U.S. Government Auditing Standards, which includes auditor's opinions on (1) compliance with USDOL regulations and the provisions of the Cooperative Agreement, and (2) the reliability of the Grantee's financial and performance reports. USDOL will provide an examination guide to be used by the auditor selected by the Grantee to perform the attestation engagement and will provide assistance in the event a Grantee is unable to identify an audit firm qualified to perform an attestation engagement in accordance with U.S. Government Auditing Standards. The Grantee's contract with the auditor to conduct the attestation engagement must include provisions granting access to the auditor's documentation (work papers) to representatives of USDOL, including the Grant Officer, the GOTR, and the USDOL's Office of the Inspector General. The reports for these engagements are to be submitted to the Grant Officer with a copy to the GOTR (1) 30 days after receipt of the auditor's report, or (2) nine months after the end of the Grantee's fiscal year, whichever occurs sooner.

Please Note: USDOL generally allows the costs to be allocated based on the following (applicable to U.S.-based agencies only): (1) A-133 “single audit” costs as part of the indirect cost rate/pool for organizations with more than one Federal source of funding. Organizations with only one Federal source could charge the A-133 single audit cost as direct costs; (2) A-133 “compliance supplement” costs—as direct costs for Federal sources only through a cost allocation methodology approved by the Federal cognizant agency; or (3) A-133 program specific audits as direct costs. Any deviations from the above must be explained and justified in the application.

C. Administrative Standards and Provisions

Cooperative Agreements awarded under this solicitation are subject to the following administrative standards and provisions outlined in the CFR that pertain to USDOL, and any other applicable standards that come into effect during the term of the Cooperative Agreement, if applicable to a particular Grantee:

ii. 29 CFR Part 2 Subpart D—Equal Treatment in Department of Labor Programs for Religious Organizations; Protection of Religious Liberty of Department of Labor Social Service Providers and Beneficiaries.

iii. 29 CFR Part 31—Nondiscrimination in Federally Assisted Programs of the Department of Labor—Effectuation of Title VI of the Civil Rights Act of 1964.

iv. 29 CFR Part 32—Nondiscrimination on the Basis of Handicap in Programs and Activities Receiving or Benefiting from Federal Financial Assistance.

v. 29 CFR Part 33—Enforcement of Nondiscrimination on the Basis of Handicap in Programs or Activities Conducted by the Department of Labor.

vi. 29 CFR Part 35—Nondiscrimination on the Basis of Age in Programs or Activities Receiving Federal Financial Assistance from the Department of Labor.

vii. 29 CFR Part 36—Federal Standards for Nondiscrimination on the Basis of Sex in Education Programs or Activities Receiving Federal Financial Assistance.

viii. 29 CFR Part 93—New Restrictions on Lobbying.

ix. 29 CFR Part 95—Uniform Administrative Requirements for Grants and Agreements with Institutions of Higher Education, Hospitals and other Non-Profit Organizations, and with Commercial Organizations, Foreign Governments, Organizations Under the Jurisdiction of Foreign Governments and International Organizations.

x. 29 CFR Part 96—Federal Standards for Audit of Federally Funded Grants, Contracts and Agreements.

xi. 29 CFR Part 98—Federal Standards for Government-wide Debarment and Suspension (Nonprocurement) and Government-wide Requirements for Drug-Free Workplace (Grants).

xii. 29 CFR Part 99—Federal Standards for Audits of States, Local Governments, and Non-Profit Organizations.

Copies of all regulations referenced in this solicitation are available at no cost, online, at http://www.dol.gov. A copy of Title 29 of the CFR referenced in this solicitation is available at no cost, online, at http://www.dol.gov/dol/allcfr/Title_29/toc.htm.

Grantees should be aware that terms outlined in this solicitation, the Cooperative Agreement, and the MPGs are all applicable to the implementation of projects awarded under this solicitation.

D. Key Personnel

As noted in Section V.1.C., Applicants must list all Key Personnel candidates. The Grantee must inform the GOTR in the event that key personnel cannot continue to work on the project as planned. The Grantee is expected to nominate, through the submission of a formal project revision, new personnel. (Further information on project revisions will be provided to Grantees after award). However, the Grantee must obtain approval from the Grant Officer before any change to key personnel is formalized. If the Grant Officer is unable to approve the personnel change, s/he reserves the right to terminate the Cooperative Agreement or disallow costs.

E. Encumbrance of Cooperative Agreement Funds

Cooperative Agreement funds may not be encumbered/obligated by a Grantee before or after the period of performance. Encumbrances/obligations outstanding as of the end of the Cooperative Agreement period may be liquidated (paid out) after the end of the Cooperative Agreement period. Such encumbrances/obligations may involve only specified commitments for which a need existed during the Cooperative Agreement period and that are supported by approved contracts, purchase orders, requisitions, invoices, bills, or other evidence of liability consistent with a Grantee's purchasing procedures and incurred within the Cooperative Agreement period.

All encumbrances/obligations incurred during the Cooperative Agreement period must be liquidated within 90 calendar days after the end of the Cooperative Agreement period, unless a longer period of time is granted by USDOL.

Federal Regulations require Grantees to submit annually an inventory listing of federally-owned property in their custody to USDOL. See 29 CFR 95.33(a). Such property must be inventoried and secured throughout the life of the project. At the end of the project, USDOL and the Grantee are expected to determine how to best allocate such property.

F. Site Visits

USDOL, through its authorized representatives, has the right, at all reasonable times, to make site visits to review project accomplishments and management control systems and to provide such technical assistance as may be required. USDOL intends to make every effort to notify the Grantee at least two weeks in advance of any trip to the USDOL-funded project site. If USDOL makes any site visit on the premises of a Grantee or a subcontractor(s) under the Cooperative Agreement, the Grantee must provide, and must require its subcontractors to provide, all reasonable facilities and assistance for the safety and convenience of government representatives in the performance of their duties. All site visits and evaluations are expected to be performed in a manner designed to not unduly delay the implementation of the project.

4. Reporting and Deliverables

A Grantee must report to USDOL on a semi-annual basis, or more frequently if deemed necessary by USDOL, on the implementation of the program. Guidance on USDOL procedures and management requirements will be provided to Grantees in the MPGs that are provided with the Cooperative Agreement. Unless otherwise indicated, a Grantee must submit copies of all required reports to USDOL by the specified due dates. Exact timeframes for completion of deliverables will be addressed in the Cooperative Agreement and the MPGs.

After award of the Cooperative Agreement the following specific deliverables will be required.

A. Project Document

Within 60 calendar days of project award, the Grantee must deliver a final draft, for approval by USDOL, of the Project Document, based on the application submitted in response to this solicitation and including the results of additional consultations with project stakeholders, government officials in the target countries, local partners, and USDOL. The Project Document must include a detailed activities-based Work Plan, including plans to carry out a mapping of the carpet industry and pilot test survey instruments in the three countries. An annual Work Plan that updates the initial Work Plan must be submitted to USDOL annually with the September technical progress report.

B. Terms of Reference

Within 90 calendar days of award, Grantees must develop a draft general Terms of Reference (TOR), for approval by USDOL, to guide the in-country research conducted by the Grantee's subcontractors. The TOR must outline the objective, scope, and deliverables for the subcontractors that includes the timeframe and associated costs for proposed tasks. Within 120 calendar days of award, the Grantee must submit draft country-specific TORs and submit potential candidates/subcontractors for data collection.

C. Report Outline

Within 90 calendar days of award, Grantees must submit for USDOL approval a general draft report outline that adequately addresses all of the research questions, and at a minimum describes the data collection methodologies used, pilot test findings, information on the country context including cultural, demographic, educational, socio-economic, and legal and institutional frameworks, conclusions and recommendations. Grantees may submit suggestions for report formats as well as relevant dissemination plans.

D. Methodological Plans and Survey Instruments

Within 210 calendar days of award, the Grantee must draft detailed methodological plans and survey instruments to USDOL. Draft methodological plans and survey instruments should include input from data collection subcontractors and other technical advisors and key experts knowledgeable on issues related to child labor in South Asia, particularly the carpet industry, and on child labor data collection.

E. Technical Progress and Financial Reports

The format for the technical progress reports will be provided in the MPG distributed to Grantees after the award. Grantees must submit a typed technical progress report to USDOL on a semi-annual basis by 31 March and 30 September of each year during the Cooperative Agreement period. However, USDOL reserves the right to require up to four technical progress reports a year, as necessary. Grantees must also submit a quarterly financial report (SF 269) electronically to USDOL through the E-Grants system, and a copy of the Federal Cash Transactions Report (PSC 272) to USDOL upon its submission to the HHS-PMS.

F. Final Report

At least 90 days prior to the completion of the project, the Grantee must submit a draft report to USDOL. The final report is subject to USDOL approval based on the report outline specified above.

VII. Agency Contacts

All inquiries regarding this solicitation should be directed to: Ms. Lisa Harvey, U.S. Department of Labor, Procurement Services Center, 200 Constitution Avenue, NW., Room S-4307, Washington, DC 20210; telephone (202) 693-4570 (please note that this is not a toll-free-number) or e-mail: harvey.lisa@dol.gov. For a list of frequently asked questions on USDOL's Solicitation for Cooperative Agreements, please visit http://www.dol.gov/ILAB/faq/faq36.htm.

VIII. Other Information

1. Coordination With ILO/IPEC, other USDOL Grantees, and Other U.S. Government-Funded Projects

Recognizing the important work and vast experience of ILO/IPEC in reducing exploitive child labor and developing research methodologies to measure child labor world wide, and USDOL's substantial funding and support for this organization, Grantees are encouraged to establish good relationships with ILO and IPEC-specific field offices, IPEC/SIMPOC researchers and statisticians in Geneva, and other U.S. Government-funded research projects such as those supported by the U.S. Department of State's Global Trafficking in Persons (GTIP) Office, and the U.S. Agency for International Development (USAID) in the countries where they work. Similarly, USDOL intends to inform Grantees of other organizations that are working on related issues in countries with USDOL-funded projects. Establishing this type of relationship is especially important to avoid duplication of efforts and to build synergies between organizations working in the same issue area.

Grantees must also become familiar with methodological developments, standard concepts, and definitions regarding child labor that are currently used by the ILO, including Convention 138 (Minimum Age Convention, 1973) and Convention 182 (Worst Forms of Child Labor Convention, 1999) and their accompanying recommendations.

2. Privacy and Freedom of Information Act

Any information submitted in response to this solicitation is subject to the provisions of the Privacy Act and the Freedom of Information Act, as appropriate.

Lisa Harvey,
Grant Officer.

Appendix A: USDOL'S Definitions of Key Terms

Acceptable Work is work that is performed by children of legal working age, in accordance with national legislation and international standards, namely the International Labor Organization's Conventions 138 and 182; work that is non-exploitive and non-hazardous and does not prevent a child from receiving the full benefit of an education. Acceptable work would generally include, for example, light work that is compatible with national minimum age legislation and education laws.

Association(s) are considered Grantees by USDOL. Associations are two or more organizations (that do not constitute a single legal entity) who join in applying for an award. Each member of the Association must be individually eligible for award and must sign, and agree to be bound jointly and severally by the Cooperative Agreement. The Association must designate one Associate as the Lead Grantee. Specific obligations of the Lead Grantee are included in the Cooperative Agreement. All references to “Applicant(s)” and “Grantee(s)” refer to Associations as well as individual Applicants.

At-risk An “at-risk” situation refers to a set of conditions or circumstances (e.g., family environment or situation, proximity to economic activities prone to employ children) under which a child lives or to which it is exposed that make it more likely that the child will be employed in exploitive child labor. A project-specific definition of “at-risk,” clearly articulating the defining characteristics of the target group, must be provided with the application, though this definition may be refined after award in the Project Document as a result of baseline data collection. For example, siblings of children formerly engaged in exploitive labor could be considered at-risk.

Basic education comprises both formal schooling (primary and sometimes lower secondary) as well as a wide array of non-formal and informal public and private educational activities offered to meet the defined basic learning needs of groups of people of all ages. (Source: UNESCO, Education for All: Year 2000 Assessment: Glossary [CD-ROM], Paris, 2001.

A Child is, for the purposes of this solicitation considered to be an individual under the age of 18 years.

Child Labor (see definition of Exploitive Child Labor).

Children Working (see definition of Working Children).

Cooperative Agreement is a form of a grant where substantial involvement is anticipated between the donor (USDOL) and the Grantee during the performance of the proposed activities. The level of monitoring and accountability required by USDOL under a Cooperative Agreement is less than what is required in a contract, but more than in a regular grant.

Exploitive Child Labor refers to the worst forms of child labor outlined in ILO Convention 182, and all types of work that prevent a child from obtaining an education or impede a child's ability to learn as outlined in ILO Convention 138.

ILO Convention 182, Article 3, defines the worst forms of child labor as comprised of:

(a) All forms of slavery or practices similar to slavery, such as the sale and trafficking of children, debt bondage and serfdom and forced or compulsory labor, including forced or compulsory recruitment of children for use in armed conflict;

(b) The use, procuring or offering of a child for prostitution, the production of pornography or for pornographic performances;

(c) The use, procuring or offering of a child for illicit activities, in particular for the production and trafficking of drugs as defined in the relevant international treaties;

(d) Work which, by its nature or the circumstances in which it is carried out, is likely to harm the health, safety or morals of children.

ILO Convention 138, Minimum Age Convention, Article 7.1(b) is also used to identify exploitive child labor. Article 7.1(b) states that children within a particular age range shall not participate in work that will “prejudice their attendance at school, their participation in vocational orientation or training programmes approved by the competent authority or their capacity to benefit from the instruction received.”

Hazardous work refers to work that falls under Article 3(d) of ILO Convention 182. ILO Recommendation 190, which accompanies ILO Convention 182 on the Worst Forms of Child Labor, gives additional guidance on identifying hazardous work. ILO Recommendation 190 states in Section II. Hazardous work, paragraph 3, “In determining the types of work referred to under Article 3(d) of the Convention [ILO Convention 182], and in identifying where they exist, consideration should be given” to:

(a) Work which exposes children to physical, psychological or sexual abuse;

(b) Work underground, under water, at dangerous heights or in confined spaces;

(c) Work with dangerous machinery, equipment and tools, or which involves the manual handling or transport of heavy loads;

(d) Work in an unhealthy environment which may, for example, expose children to hazardous substances, agents or processes, or to temperatures, noise levels, or vibrations damaging to their health;

(e) Work under particularly difficult conditions such as work for long hours or during the night or work where the child is unreasonably confined to the premises of the employer In some cases, the work conditions of children involved in hazardous work may be improved so as to make the work conditions acceptable for children. This may include, for example, reducing hours of work or changing the type of work children perform (i.e., disallowing children in agriculture from working with heavy machinery or pesticide applications). However, conditions can only be improved for children who are legal to work according to the specific laws of the target countries. If, for example, a child is 9 years old and working in hazardous child labor in a country whose minimum age is 15 years, this child should be completely withdrawn from child labor, since conditions cannot be improved to make it legally acceptable for the child to work.

Project Design Consolidation Phase lasts no longer than one year after award. During this phase, the Grantee outlines the goals and objectives of the project; identifies activities of the project that support the stated goals and objectives; establishes specific deadlines and responsibilities for carrying out the activities of the project; and determines a timeframe for measuring the progress and achievements of the project. The Project Design Consolidation Phase, therefore, includes the development of a Project Document and Work Plan. Grantees must also address minimum requirements identified in the Cooperative Agreement, which includes but is not limited to defining and describing the research methodology; detailed description of activities; and budget and cost effectiveness. USDOL may provide technical assistance to Grantees to refine the Project Document and Work Plan, which, as deliverables, are subject to approval by USDOL.

The Project Document serves a number of functions. It describes the situation that gave rise to a particular project, explains “why” a project was started, establishes the plan for what must be done, outlines what must be produced, by when, and by whom, and what is expected to happen after the project ends. It can serve as a reference point for all of the implementing partners involved in a project. The Project Document also provides the basis for assessing the success of a project. (The format for the Project Document will be provided to Grantees after award). For the most part, Grantees are expected to have already presented an essentially complete Project Design strategy as part of their application submitted in response to this solicitation. The Project Document (including a project budget) is a more refined and revised version of the application and sets the technical parameters and reference points for the project according to the standardized format outlined by USDOL. The original proposal is expected to serve as the basis for the Grantee's Project Document.

Trafficking refers to the recruitment, harboring, transportation, provision, or obtaining of a person for labor or services, through the use of force, fraud, or coercion, for the purpose of exploitation.

Unconditional Worst Forms of Child Labor refers to the worst forms of child labor that fall under ILO Convention 182 Article 3 parts (a)-(c). Children involved in the unconditional worst forms of child labor, as defined in ILO Convention 182 Article 3 parts (a)-(c) above (see definition of exploitive child labor), must no longer be working to be considered as withdrawn from exploitive labor. That is, no improvements in the working conditions of children involved in slavery or slavery-like practices, prostitution or pornography, or illicit activities will create an acceptable environment for children to work, even for one hour.

Work Plan must identify major project activities, deadlines for completing those activities, and person(s) or institution(s) responsible for completing these activities. The Work Plan must correspond to activities identified in the rest of the application. The Work Plan may vary depending on what is the most logical form. It may, for example, be divided by project component, country, or region.

Working Children includes both children working in acceptable work and exploitive child labor.

Worst Forms of Child Labor refers to the forms of child labor that falls under ILO Convention 182 Article 3 parts (a)-(d), comprised of the forms of work referred to as “unconditional worst forms of child labor” [parts (a)-(c)] and “hazardous work” [part (d)].

Youth are individuals aged 17 and under.

Appendix B: Definitions and Usual Characteristics of Subgrants vs. Subcontracts
[U.S. Department of Labor Office of Child Labor, Forced Labor, and Human Trafficking]
| Subgrants | Subcontracts
Definitions:
*General Purpose | Subject to an agreement that provides for the transfer of money or property to accomplish a public purpose of support or stimulation as authorized under Federal statute | Subject to an agreement in which the purpose is primarily to acquire goods and services.
*Focus | Carries out one or more major programmatic functions | Provides goods and services that are ancillary or supportive to the operation of the Federal program.
*Recipient Responsibility | Has responsibility for programmatic decision making, adherence to applicable Federal program compliance requirements, and is able to determine which participants are eligible to receive Federal financial assistance | Responsibility for programmatic decision making rests primarily with the party providing payment and inspecting deliverables. Is subject to procurement regulations, but not programmatic compliance requirements.
Usual Characteristics:
Recipients | Awarded largely to non-profits, institutions of higher education, and state and local governments. Fewer commercial enterprises are recipients | Awarded largely to commercial enterprises, although non-profits and state or local governments may respond to a bid or negotiated solicitation.
Terms & Performance Standards | Less rigorous according to their terms and conditions than contracts. Performance is measured against whether the objectives of the Federal program are met (for example, to eliminate exploitive child labor) | More rigorous according to their terms and conditions. Performance is measured against the delivery of goods and services.
Operational Environment | Less likely to operate in a competitive environment and usually provides services for a public purpose | Operates in a competitive environment and provides goods and services to many different purchasers
Monitoring | Less regulated. If the task is not accomplished, there may be fewer legal and financial ramifications | More heavily regulated and more likely to carry substantial legal or financial risk.
Scope of Work | Scope of work, deliverables and delivery schedule are more flexible and easier to amend when changes are necessary | Scope of work may be less flexible and more difficult to amend. Firm delivery schedule with deliverables subject to rigorous inspection.
Payment Schedule | Funds usually drawn down by recipient or paid in a lump sum. Payments are based on budgeted amounts rather than the unit cost of services | Payment is usually made by invoice only after goods are delivered or services rendered. Advances are made under specific, limited circumstances. Payments are related to goods delivered or services rendered.
* The distinction between subgrants vs. subcontracts should be made primarily based on these three definitions. Even if an agreement has some or many of the “usual characteristics” of a subgrant, project managers and auditors should closely examine its purpose, focus, and recipient responsibilities (using the definitions provided above) before determining whether it meets the definition of a subgrant or subcontract.

Appendix C: Technical Proposal Format

A. Research Background and Significance.

B. Research Methodology/Budget-Cost Effectiveness.

i. Research Design.

ii. Population and Sample.

iii. Data Sources and Collection.

iv. Data Coding and Management.

v. Data Analysis.

vi. Dissemination.

vii. Limitations to Study.

viii. Human Subjections Considerations.

ix. Budget-Cost Effectiveness (with cost of activities linked to Outputs-Based Budget).

C. Organizational Capacity.

i. International and U.S. Government Grant Experience.

ii. Country Presence.

iii. Fiscal Oversight.

D. Key Personnel/Management Plan/Staffing.

i. Key Personnel.

ii. Other Professional Personnel.

iii. Management Plan.

iv. Staff Loading Plan.

BILLING CODE 4510-28-P

[FR Doc. E7-12011 Filed 6-20-07; 8:45 am]

BILLING CODE 4510-28-C